DEPARTMENT OF LABOR

Employment and Training Administration

[TA-W-55,940]

Dunn and Bradstreet, Inc., Lehigh Valley, Bethlehem, PA; Notice of Termination of Investigation

Pursuant to section 221 of the Trade Act of 1974, as amended, an investigation was initiated on November 5, 2004 in response to a petition filed on behalf of workers at Dunn and Bradstreet, Lehigh Valley, Bethlehem, Pennsylvania.

The petition has been deemed invalid. The petition was not signed by 3 workers.

Consequently, further investigation in this case would serve no purpose, and the investigation has been terminated.

Signed at Washington, DC, this 6th day of December, 2004.
Linda G. Poole,
Certifying Officer, Division of Trade Adjustment Assistance.

[FR Doc. E5-248 Filed 1-21-05; 8:45 am]

BILLING CODE 4510-30-P